DEPARTMENT OF TRANSPORTATION

Federal Aviation Administration

Noise Compatibility Program for Dane County Regional Airport/Truax Field, Dane County, Wisconsin

AGENCY: Federal Aviation Administration, DOT.

ACTION: Acceptance of Dane County Regional Airport/Truax Field noise exposure map.

SUMMARY: The Federal Aviation Administration (FAA) announces its determination that the noise exposure map submitted by Dane County for Dane County Regional Airport/Truax Field is in compliance with applicable statutory and regulatory requirements.

DATES: The effective date of the FAA's determination on the noise exposure map is December 21, 2023.

FOR FURTHER INFORMATION CONTACT: Bobb Beauchamp, 2300 Devon Avenue, Suite 312, Des Plaines, Illinois 60018. 847-294-7364.

SUPPLEMENTARY INFORMATION: The FAA determined the noise exposure map submitted by Dane County for Dane County Regional Airport/Truax Field, is in compliance with applicable statutory and regulatory requirements, effective December 21, 2023. Under title 49, United States Code (U.S.C.) section 47503, an airport operator may submit to the FAA, noise exposure maps depicting non-compatible uses as of the date such map is submitted, a description of estimated aircraft operations during a forecast period that is at least five years in the future and how those operations will affect the map. A noise exposure map must be prepared in accordance with title 14, Code of Federal Regulations (CFR) part 150, the regulations promulgated pursuant to 49 U.S.C. 47502 and developed in consultation with public agencies and planning authorities in the area surrounding the airport, State and Federal agencies, interested and affected parties in the local community, and aeronautical users of the airport. In addition, an airport operator that submitted a noise exposure map, which the FAA determined is compliant with statutory and regulatory requirements, may submit a noise compatibility program for FAA approval that sets forth measures the operator has taken or proposes to take to reduce existing non-compatible uses and prevent the introduction of additional non-compatible uses.

The FAA completed its review of the noise exposure map and supporting documentation submitted by Dane County and determined the noise exposure map and accompanying documentation are in compliance with applicable requirements. The documentation that constitutes the Noise Exposure Map includes: Table ES-1-1 Existing (2022) and Forecast (2027) Land Use Compatibility; Table ES-1-2 Existing (2022) and Forecast (2027) Noise Sensitive Sites; Figure ES-1 Existing Condition (2022) Noise Exposure Map; Figure ES-2 Future Conditions (2027) Noise Exposure Map; Figure 3-1 Existing Land Use; Table 5-1 Runway Specifications; Table 5-2 Operation Counts by Tower Category; Table 5-3 Modeled 2022 Annual Itinerant Operations; Table 5-4 Modeled 2022 Annual Local Operations; Table 5-5 Modeled 2027 Annual Itinerant Operations; Table 5-6 Modeled 2027 Annual Local Operations; Figure 5-2 AEDT Runway Use; Figure 5-3 NMAP Runway Use; Table 5-7 Runway Utilization for Fixed-Wing Aircraft; Table 5-8 AEDT-Modeled Itinerant Jet Model Track Utilization; Table 5-9 Military NMAP-Modeled Itinerant Fixed-Wing Model Track Utilization; Table 5-10 AEDT-Modeled Itinerant Non-Jet Fixed-Wing Model Track Utilization; Table 5-11 AEDT-Modeled Local Fixed-Wing Model Track Utilization; Table 5-12 NMAP-Modeled Local Military Model Track Utilization; Table 5-13 AEDT-Modeled Itinerant Civilian Helicopter Model Track Utilization; Table 5-14 NMAP-Modeled Military Itinerant Helicopter Model Track Utilization; Figure 5-4 AEDT-Modeled Fixed-Wing Arrival Flight Tracks; Figure 5-5 AEDT-Modeled Fixed-Wing Departure Flight Tracks; Figure 5-6 AEDT-Modeled Fixed-Wing Circuit Flight Tracks; Figure 5-7 NMAP-Modeled Fixed-Wing Arrival Flight Tracks; Figure 5-8 NMAP-Modeled Fixed-Wing Departure Flight Tracks; Figure 5-9 NMAP-Modeled Fixed-Wing Circuit Flight Tracks; Figure 5-10 AEDT-Modeled Helicopter Arrival Flight Tracks; Figure 5-11 AEDT-Modeled Helicopter Departure Flight Tracks; Figure 5-12 NMAP-Modeled Helicopter Arrival Flight Tracks; Figure 5-13 NMAP-Modeled Helicopter Departure Flight Tracks; Figure 5-14 NMAP-Modeled Helicopter Circuit Flight Tracks; Table 5-15 Modeled Engine Runup Activity for the Wisconsin Air and Army National Guard; Figure 5-15 Modeled Engine Runup Locations for the Wisconsin Air and Army National Guard; Figure 6-1 Existing Condition (2022) Noise Exposure Map; Figure 6-2 Future Condition (2027) Noise Exposure Map; Figure 6-3 Comparison of Existing Condition (2022) and Future Condition (2027) Noise Exposure Map; Table 6-1 Existing 2022 and Forecast 2027 Land Use Compatibility; Table 6-2 Existing 2022 and Forecast 2027 Noise Sensitive Sites; Figure 6-4 Comparison of Existing Condition (2022) and Future Condition (2027) Enlarged Insets of Figure 6-3 required by 14 CFR 150.101 and 49 U.S.C 47503 and 47506. This determination is effective on December 21, 2023. FAA's determination on an airport's noise exposure map is limited to a finding that the noise exposure map was developed in accordance with the 49 U.S.C 47503 and 47506 and procedures contained in 14 CFR part 150, appendix A. FAA's acceptance of an NEM does not constitute approval of the applicant's data, information or plans, or a commitment to approve a noise compatibility program or to fund the implementation of that program. If questions arise concerning the precise relationship of specific properties within noise exposure contours depicted on a noise exposure map, it should be noted that the FAA is not involved in any way in determining the relative locations of specific properties with regard to the depicted noise contours or in interpreting the noise exposure maps to resolve questions concerning, for example, which properties should be covered by the provisions of 49 U.S.C. 47506. These functions are inseparable from the ultimate land use control and planning responsibilities of local government. These local responsibilities are not changed in any way under 14 CFR part 150 or through FAA review and acceptance of a noise exposure map. Therefore, the responsibility for the detailed overlaying of noise exposure contours onto the map depicting properties on the surface rests exclusively with the airport operator that submitted a noise exposure map or with those public and planning agencies with which consultation is required under 49 U.S.C. 47503. The FAA relied on the certification by the airport operator, under of 14 CFR 150.21 that the required consultations and opportunity for public review has been accomplished during the development of the noise exposure maps. Copies of the noise exposure map and supporting documentation and the FAA's evaluation of the noise exposure maps are available for examination at the following locations: Federal Aviation Administration Chicago Airports District Office, 2300 Devon Avenue, Suite 312, Des Plaines, IL 60018, and Dane County Regional Airport/Truax Field and Dane County at 4000 International Lane, Madison, WI 53704. Questions may be directed to the individual listed in the FOR FURTHER INFORMATION CONTACT section of this notice.

Issued in Des Plaines, Illinois, on February 5, 2024.
Debra L Bartell,
Manager, Chicago Airports District Office, FAA Great Lakes Region.

[FR Doc. 2024-02660 Filed 2-8-24; 8:45 am]

BILLING CODE 4910-13-P